DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD) • Elevation in feet (NAVD)
NORTH CAROLINA
Duplin County (FEMA Docket Nos. D-7620 and D-7628)
Angola Creek:
At the confluence with Cypress Creek | •49
Approximately 0.3 mile upstream of Lightwood Bridge Road | •51
Duplin County (Unincorporated Areas)
Back Swamp:
At the confluence with Cypress Creek | •52
At the Duplin/Onslow County boundary | •58
Duplin County (Unincorporated Areas)
Back Swamp Tributary 2:
At the confluence with Back Swamp | •59
Approximately 0.4 mile upstream of Fountaintown Road | •72
Duplin County (Unincorporated Areas)
Back Swamp Tributary 4:
At the confluence with Back Swamp Tributary 3 | •67
Approximately 0.7 mile upstream of State Route 111 | •87
Duplin County (Unincorporated Areas)
Back Swamp Tributary 5:
At the confluence with Back Swamp Tributary 4 | •69
Approximately 0.7 mile upstream of State Route 111 | •87
Duplin County (Unincorporated Areas)
Bear Marsh Branch:
At the confluence with Goshen Swamp | •94
Approximately 1.8 miles upstream of Beautancus Road | •137
Duplin County (Unincorporated Areas)
Bear Swamp:
At the confluence with Goshen Swamp | •93
Approximately 0.5 mile upstream of Warren Road | •131
Duplin County (Unincorporated Areas)
Bear Swamp Tributary:
At the confluence with Bear Swamp | •108
Approximately 500 feet downstream of Warren Road | •164
Duplin County (Unincorporated Areas)
Beaverdam Branch (near Kenansville):
At the confluence of Maple Branch | •86
Approximately 0.3 mile upstream of Doctor Williams Road | •93
Duplin County (Unincorporated Areas)
Beaverdam Branch (near Scotts Store):
At the confluence with Northeast Cape Fear River | •80
Approximately 100 feet downstream of White Flash Road | •100
Duplin County (Unincorporated Areas)
Beaverdam Branch (near Gracys Crossroads):
At the confluence with Great Branch | •95
Approximately 0.4 mile upstream of Richard Rouse Road | •108
Duplin County (Unincorporated Areas)
Big Beaverdam Branch:
At the confluence with Maxwell Creek | •65
Approximately 0.8 mile upstream of railroad | •98
Duplin County (Unincorporated Areas)
Big Beaverdam Creek:
At the confluence with Rockfish Creek | •69
Approximately 1.7 miles upstream of Old Camp Road | •97
Duplin County (Unincorporated Areas)
Big Branch:
At the confluence with Bear Swamp | •111
Approximately 1.8 miles upstream of the confluence with Bear Swamp | •129
Duplin County (Unincorporated Areas)
Buck Marsh Branch:
At the confluence with Northeast Cape Fear River | •83
At the Duplin/Wayne County boundary | •93
Duplin County (Unincorporated Areas)
Buckhall Creek:
At the confluence of Stewarts Creek (near Carroll) | •92
Approximately 1.3 miles upstream of Buck Hall Creek Road | •103
Duplin County (Unincorporated Areas)
Bulltail Creek:
At the confluence with Doctors Creek | •58
At the Duplin/Sampson County boundary | •63
Duplin County (Unincorporated Areas)
Burn Coat Creek:
At the confluence with Northeast Cape Fear River | •63
Approximately 0.7 mile upstream of Maxwell Mill Road | •93
Duplin County (Unincorporated Areas)
Cabin Creek:
At the confluence with Limestone Creek | •55
Approximately 0.9 mile upstream of State Route 111 | •83
Duplin County (Unincorporated Areas)
Camp Branch:
At the confluence with Northeast Cape Fear River | •69
Approximately 0.8 mile upstream of Woodland Church Road | •91
Duplin County (Unincorporated Areas)
Cow Hole Branch:
At the confluence with Goshen Swamp | •96
Approximately 1.3 miles upstream of the confluence with Goshen Swamp | •106
Duplin County (Unincorporated Areas)
Cowhole Branch:
At the confluence with Burn Coat Creek | •94
Approximately 1.1 miles upstream of Jimmy Lee Road | •114
Duplin County (Unincorporated Areas)
Cypress Creek:
At the confluence with Northeast Cape Fear River | •33
Approximately 0.6 mile upstream of Cypress Creek Road | •51
Duplin County (Unincorporated Areas)
Cypress Creek Tributary 1:
At the confluence with Cypress Creek | •38
Approximately 1.6 miles upstream of Maready Road | •73
Duplin County (Unincorporated Areas)
Cypress Creek Tributary 2:
At the confluence with Cypress Creek Tributary 1 | •44
Approximately 1.3 miles upstream of the confluence with Cypress Creek Tributary 1 | •53
Duplin County (Unincorporated Areas)
Dark Branch:
At the confluence with Northeast Cape Fear River | •53
Approximately 1.4 miles upstream of Dark Branch Road | •86
Duplin County (Unincorporated Areas)
Doctors Creek:
At the confluence with Rockfish Creek | •39
At the Duplin/Sampson County boundary | •86
Duplin County (Unincorporated Areas)
Dufis Creek:
At the confluence with Rockfish Creek | •46
Approximately 250 feet upstream of Wellstown Road | •62
Duplin County (Unincorporated Areas)
Elder Branch:
At the confluence with Maxwell Creek | •58
Approximately 0.2 mile upstream of Hamilton Road | •81
Duplin County (Unincorporated Areas)
Fussell Mill Branch:
At the confluence with Rockfish Creek | •45
Approximately 0.9 mile upstream of Cornwallis Road | •64
Duplin County (Unincorporated Areas)
Goshen Swamp:
At the confluence with Northeast Cape Fear River | •59
At the Duplin/Sampson County boundary | •117
Duplin County (Unincorporated Areas), Town of Calypso
Great Branch:
At the confluence with Northeast Cape Fear River | •77
Approximately 1.8 miles upstream of State Route 903 | •95
Duplin County (Unincorporated Areas)
Grove Branch:
At the confluence with Northeast Cape Fear River | •52
Approximately 2.7 miles upstream of Abner Phillips Road | •106
Duplin County (Unincorporated Areas), Town of Kenansville
Herring Marsh Run:
At the confluence with Goshen Swamp | •71
Approximately 0.4 mile upstream of Kinsey Mill Road | •110
Duplin County (Unincorporated Areas)
Island Creek:
At the confluence with Northeast Cape Fear River | •30
Approximately 1.2 miles upstream of Rosemary Road | •52
Duplin County (Unincorporated Areas)
Island Creek Tributary:
At the confluence with Island Creek | •31
Approximately 1.5 miles upstream of Hanchey Road | •35
Duplin County (Unincorporated Areas)
Juniper Branch:
At the confluence with Matthews Creek | •91
Approximately 0.3 mile upstream of Matthews Creek | ••103
Duplin County (Unincorporated Areas)
King Branch:
At the confluence with Nahunga Creek | •93
Approximately 0.8 mile upstream of Veachs Mill Road | •119
Duplin County (Unincorporated Areas)
Ladds Branch:
At the confluence with Polly Run Creek | •113
Approximately 1.2 miles upstream of Oak Ridge Avenue | •125
Duplin County (Unincorporated Areas)
Limestone Creek:
At the confluence with Northeast Cape Fear River | •46
Approximately 1.8 miles upstream of State Route 24 | •85
Duplin County (Unincorporated Areas)
Little Beaverdam Creek:
At the confluence with Big Beaverdam Creek | •75
Approximately 0.1 mile upstream of Halls Pond Road | •85
Duplin County (Unincorporated Areas)
Little Limestone Creek:
At the confluence with Limestone Creek | •65
Approximately 0.5 mile upstream of Church Road | •97
Duplin County (Unincorporated Areas)
Little Rockfish Creek:
At the confluence with Rockfish Creek | •28
Approximately 0.7 mile upstream of State Route 41 | •45
Duplin County (Unincorporated Areas), Town of Wallace
Maple Branch:
At the confluence with Goshen Swamp | •73
Approximately 0.6 mile upstream of Summerlins Crossroad Road | •85
Duplin County (Unincorporated Areas)
Maple Creek:
At the confluence with Limestone Creek | •46
Approximately 1.9 miles upstream of Limestone Creek | •63
Duplin County (Unincorporated Areas)
Marsh Branch:
At the confluence with Grove Creek | •78
Approximately 1.8 miles upstream of State Route 24/50 | ••94
Duplin County (Unincorporated Areas)
Matthews Creek:
At the confluence with Northeast Cape Fear River | •73
Approximately 3.2 miles upstream of State Route 111/903 | •106
Duplin County (Unincorporated Areas)
Maxwell Creek:
At the confluence with Stockinghead Creek | •47
Approximately 0.6 mile upstream of I-40 | •101
Duplin County (Unincorporated Areas), Town of Magnolia
Mill Branch (near Kornegan):
At the confluence with Burn Coat Creek | •93
Approximately 0.1 mile downstream of State Route 11 | •105
Duplin County (Unincorporated Areas)
Mill Branch (near Teachey):
At the confluence with Little Rockfish Creek | •45
Approximately 250 feet downstream with Stallings Road | •52
Duplin County (Unincorporated Areas), Town of Wallace
Mill Creek:
At the confluence with Doctors Creek | •51
At the Duplin/Sampson County boundary | •55
Duplin County (Unincorporated Areas)
Miller's Creek:
At the confluence with Stewarts Creek (near Carroll) | •83
Approximately 1.4 miles upstream of Beasley Torrans Road | •102
Duplin County (Unincorporated Areas), Town of Magnolia
Mire Branch:
At the confluence with Northeast Cape Fear River | •83
Approximately 1.4 miles upstream of Garner Chapel Road | •109
Duplin County (Unincorporated Areas)
Muddy Creek:
At the confluence with Northeast Cape Fear River | •36
Approximately 0.7 mile upstream of Lyman Road | •64
Duplin County (Unincorporated Areas), Town of Beulaville
Muddy Creek Tributary:
At the confluence with Muddy Creek | •47
Approximately 3.2 miles upstream of State Route 111 | •82
Duplin County (Unincorporated Areas)
Murpheys Creek:
At the confluence with Rockfish Creek | •72
Approximately 1.3 miles upstream of Waycross Road | •95
Duplin County (Unincorporated Areas)
Murpheys Creek Tributary:
At the confluence with Murpheys Creek | •81
Approximately 0.6 mile upstream of Bonham Road | •91
Duplin County (Unincorporated Areas)
Nahunga Creek:
At the confluence with Goshen Swamp | •78
Approximately 100 feet downstream of Revelle Road | •116
Duplin County (Unincorporated Areas)
Northeast Cape Fear River:
At the Duplin/Pender County boundary | •26
At the Town of Mount Olive Extraterritorial Jurisdiction limits | •126
Duplin County (Unincorporated Areas)
Oakie Branch:
At the confluence with Northeast Cape Fear River | •30
Approximately 0.6 mile upstream of Jack Dale Road | •50
Duplin County (Unincorporated Areas)
Paget Branch:
At the confluence with Rockfish Creek | •45
Approximately 0.3 mile upstream of High School Road | •67
Duplin County (Unincorporated Areas), Town of Wallace
Panther Branch (near Faison):
At the confluence with Goshen Swamp | •107
Approximately 0.3 mile upstream of NC 117 | •130
Duplin County (Unincorporated Areas), Town of Faison
Panther Creek:
At the confluence with Northeast Cape Fear River | •60
Approximately 2.8 miles upstream of Kitty Noecker Road | •101
Duplin County (Unincorporated Areas)
Persimmon Branch:
At the confluence with Northeast Cape Fear River | •47
Approximately 2.2 miles upstream of South Dobson Chapel Road | •76
Duplin County (Unincorporated Areas)
Pharisee Creek:
At the confluence with Bulltail Creek | •58
At the Duplin/Sampson County boundary | •58
Duplin County (Unincorporated Areas)
Poley Branch:
At the confluence with Buck Marsh Branch | •86
Approximately 1.9 miles upstream of Buck Marsh Branch | •105
Duplin County (Unincorporated Areas)
Polly Run Creek:
At the confluence with Northeast Cape Fear River | •107
Approximately 0.3 mile upstream of Garner Chapel Road | •113
Duplin County (Unincorporated Areas)
Pudding Branch:
At the confluence with Maple Branch | •86
Approximately 0.3 mile upstream of Summerlins Crossroad Road | •105
Duplin County (Unincorporated Areas)
Rattlesnake Branch:
At the confluence with Northeast Cape Fear River | •108
Approximately 0.2 mile downstream of State Route 403 | •122
Duplin County (Unincorporated Areas)
Reedy Branch (near Blizzards Crossroads):
At the confluence with Mire Branch | •107
Approximately 0.3 mile upstream of the confluence with Mire Branch | •114
Duplin County (Unincorporated Areas)
Reedy Branch (near Faison):
At the confluence with Goshen Swamp
Approximately 1.3 miles upstream of Bill Clifton Road | •134
Duplin County (Unincorporated Areas), Town of Faison
Rockfish Creek:
At the confluence with Northeast Cape Fear River | •26
Approximately 0.9 mile upstream of Blue Newkirk Road | •93
Duplin County (Unincorporated Areas), Town of Wallace
Sawyer Branch:
At the confluence with Matthews Creek | •100
Approximately 0.7 mile upstream of Guy Sanderson Road | •121
Duplin County (Unincorporated Areas)
Stewarts Creek (near Carroll):
At the Duplin/Sampson County boundary | •83
Approximately 1.7 miles upstream of Route 117 | •123
Duplin County (Unincorporated Areas), Town of Warsaw
Stewarts Creek (near Friendship):
At the confluence of Nahunga Creek | •84
Approximately 0.8 mile upstream of Sammy Godwin Lane | •100
Duplin County (Unincorporated Areas)
Stocking Head Creek:
At the confluence with Northeast Cape Fear River | •38
Approximately 700 feet upstream of South Dobson Chapel Road | •65
Duplin County (Unincorporated Areas)
Taylor Creek:
At the confluence with Dufis Creek | •51
Approximately 2.2 miles upstream of Brices Store Road | •87
Duplin County (Unincorporated Areas), Town of Rose Hill
Turkey Creek:
At the Duplin/Sampson County boundary | •117
Approximately 0.8 mile upstream of Blackmore Road | •133
Duplin County (Unincorporated Areas)
Welch Branch:
At the confluence with Dark Branch | •56
Approximately 2.8 miles upstream of the confluence with Dark Branch | •86
Duplin County (Unincorporated Areas)
White Oak Branch:
At the confluence with Panther Creek | •66
Approximately 1.6 miles upstream of the confluence of Panther Creek | •89
Duplin County (Unincorporated Areas)
Whiteoak Branch:
At the confluence with Goshen Swamp | •98
At the Towns of Calypso and Mount Olive Extraterritorial Jurisdiction limits | •153
Duplin County (Unincorporated Areas), Town of Calypso
Wolfscape Branch:
At the confluence with Polly Run Creek | •113
Approximately 0.5 mile upstream of Bethel Church Road | •129
Duplin County (Unincorporated Areas)
Town of Beulaville
Maps available for inspection at the Duplin County Planning Department, 224 Seminary Street, Kenansville, North Carolina.
Town of Calypso
Maps available for inspection at the Duplin County Planning Department, 224 Seminary Street, Kenansville, North Carolina.
Duplin County (Unincorporated Areas)
Maps available for inspection at the Duplin County Planning Department, 224 Seminary Street, Kenansville, North Carolina.
Town of Kenansville
Maps available for inspection at the Duplin County Planning Department, 224 Seminary Street, Kenansville, North Carolina.
Town of Faison
Maps available for inspection at the Faison Town Hall, 110 East Center Street, Faison, North Carolina.
Town of Magnolia
Maps available for inspection at the Duplin County Planning Department, 224 Seminary Street, Kenansville, North Carolina.
Town of Rose Hill
Maps available for inspection at the Rose Hill Town Hall, 103 South Railroad Street, Rose Hill, North Carolina.
Town of Wallace
Maps available for inspection at the Wallace Town Hall, 311 East Murphey Street, Wallace, North Carolina.
Town of Warsaw
Maps available for inspection at the Warsaw Town Hall, 128 West Bay Street, Warsaw, North Carolina.

(Catalog of Federal Domestic Assistance No. 83.100, “Flood Insurance”)

Dated: September 14, 2005.
David I. Maurstad,
Acting Director, Mitigation Division, Emergency Preparedness and Response Directorate.

[FR Doc. 05-18733 Filed 9-19-05; 8:45 am]

BILLING CODE 9110-12-P